DEPARTMENT OF ENERGY

Federal Energy Regulatory Commission

[Docket No. EC04-1-000, et al.]

PSI Energy, Inc., et al.; Electric Rate and Corporate Filings

October 9, 2003.

The following filings have been made with the Commission. The filings are listed in ascending order within each docket classification.

1. PSI Energy, Inc.

[Docket No. EC04-1-000]

Take notice that on October 2, 2003, PSI Energy, Inc. tendered for filing an application requesting all necessary authorizations under Section 203 of the Federal Power Act, 16 U.S.C. 824b, for PSI Energy, Inc., to engage in a transfer of limited substation assets with Hoosier Energy Rural Electric Cooperative, Inc. PSI Energy, Inc., states that copies of this filing have been served on the Indiana Utility Regulatory Commission.

Comment Date: October 23, 2003.

2. AmerenEnergy Resources Generating Company

[Docket No. EG02-126-000]

Take notice that on April 29, 2003, Central Illinois Generation, Inc. now known as AmerenEnergy Resources Generating Company (AERG), tendered for filing an application for determination of exempt wholesale generator (EWG) status pursuant to 18 CFR 365 of the Commission's regulations. AERG states that the facilities were to be transferred to AERG from its parent company, Central Illinois Light Company as approved by the Commission on May 28, 2002 in Docket EC02-66-000.

AERG states that the transfer of the generating facilities described in Docket No. EG02-126-000 is expected to occur sometime after the date of AERG's filing. However, pursuant to 18 CFR 365.8, AERG also notifies the Commission that effective as of October 2, 2003 it no longer seeks to maintain EWG status.

Comment Date: October 30, 2003.

3. ISO New England Inc.

[Docket No. ER02-2153-005]

Take notice that on October 1, 2003, ISO New England Inc. (ISO), submitted a compliance report in this proceeding.

ISO states that copies of said filing have been served upon all parties to this proceeding and the New England utility regulatory agencies, and electronically upon the New England Power Pool participants.

Comment Date: October 22, 2003.

4. Duke Energy South Bay, LLC

[Docket No. ER03-117-000]

Take notice that on October 2, 2002, Duke Energy South Bay, LLC (DESB) pursuant to 18 CFR 35.13 of the Commission regulations, tendered for filing certain revisions to Rate Schedules A and B of DESB's Reliability Must Run (RMR) Agreement with the California Independent System Operator (CAISO) for contract year 2003. This filing is the result of an Offer of Settlement with respect to all issues in Docket No. ER03-117-000 relating to DESB's 2003 Annual Fixed Revenue Requirement (AFRR) under its RMR Agreement with CAISO which was filed concurrently in this docket.

DESB requests an effective date of January 1, 2003 for these revisions, unless otherwise noted. DESB states that copies of the filing have been served upon the CAISO, San Diego Gas & Electric Company, the Public Utilities Commission of the State of California, and the Electricity Oversight Board of the State of California.

Comment Date: October 23, 2003.

5. Tampa Electric Company

[Docket No. ER03-1384-001]

Take notice that Tampa Electric Company (Tampa Electric) tendered for filing on September 25, 2003, amendments to Appendices C and D of its Market-Based Sales Tariff. On October 2, 2003, Tampa Electric submitted an additional amendment. The amendments lower the credit rating thresholds in Appendix C and delete Appendix D, which contains a statement of rates for services under Tampa Electric's open access transmission tariff. Tampa Electric proposes that the amendments be made effective on September 25, 2003.

Copies of the filing have been served on the customers under Tampa Electric's Market-Based Sales Tariff and the Florida Public Service Commission.

Comment Date: October 23, 2003.

6. New York Independent System Operator, Inc.

[Docket No. ER04-4-000]

Take notice that on October 1, 2003, the New York Independent System Operator, Inc. (NYISO), submitted conforming changes to the Tables of Contents of its Market Administration and Control Area Services Tariff and to its Open Access Transmission Tariff. The NYISO requests an October 2, 2003 effective date. NYISO states that the revisions to each Tariff's Table of Contents are made to conform them to changes in the substantive content of the Tariffs that have been previously approved by the Commission, or are currently pending with the Commission.

The NYISO states that it has served a copy of this filing upon all parties that have executed service agreements under the NYISO's Open Access Transmission Tariff or the Market Administration and Control Area Services Tariff, the New York State Public Service Commission, and the electric regulatory agencies in New Jersey and Pennsylvania.

Comment Date: October 22, 2003.

7. Northern Indiana Public Service Company

[Docket No. ER04-6-000]

Take notice that on October 1, 2003, Northern Indiana Public Service Company (NIPSCO) tendered for filing two Notices of Cancellation of NIPSCO's FERC Electric Service Tariff, Rate Schedule VA 20, Service Agreement No. 54 under FERC Electric Tariff, Original Volume No. 5 and Service Agreement No. 72 under FERC Electric Tariff, Third Revised Volume No. 2.

Comment Date: October 22, 2003.

8. AmerenEnergy Medina Valley Cogen, L.L.C.

[Docket No. ER04-8-000]

Take notice that on October 1, 2003, AmerenEnergy Medina Valley Cogen, L.L.C. (AEMVC) submitted for filing a Notice of Succession, pursuant to 18 CFR Sections 35.16 and 131.51 of the Commission's regulations. AES Medina Valley Cogen, L.L.C. (AESM) changed its name to AEMVC. AEMVC states that it adopts, ratifies, and makes own in every aspect the FERC Electric Rate Schedule No. 1 of AESM, all rate schedules filed by any party to which AESM has been a party, and the agreements entered into by AESM thereunder.

Comment Date: October 22, 2003.

9. Western Interconnection, L.L.C.

[Docket No. ES03-61-000]

Take notice that on September 30, 2003, Western Interconnection, L.L.C. (WI, L.L.C.) submitted an application pursuant to Section 204 of the Federal Power Act seeking authorization to issue a secured long-term note for $100 million.

Comment Date: October 30, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00090 Filed 10-21-03; 8:45 am]

BILLING CODE 6717-01-P